DEPARTMENT OF JUSTICE

Notice of Lodging of Consent Decree Pursuant to the Clean Water Act and Oil Pollution Control Act of 1990

In accordance with 28 CFR 50.7, notice is hereby given that on August 23, 2001 a proposed consent decree in United States v. Tesoro Hawaii Corporation, Civil Action No. 01-00560 SOM LEK, was lodged with the United States District Court for the District of Hawaii.

This action arose out of the August 24, 1998 oil spill from Tesoro's single-point mooring facility located offshore of Barber's Point, Oahu, Hawaii. The United States alleges that oil from the oil spill caused injuries to natural resources in and around Kauai. The consent decree requires the company to carry out a net removal project, and pay a total of $580,000 allocated as follows: $500,000 for natural resources restoration projects compensating for injuries to wildlife and habitat, $10,000 for restoration projects compensating for lost human use, $15,000 as a penalty to the State of Hawaii, and $55,000 to the State as a state supplemental environmental project.

The Department of Justice will receive, for a period of thirty (30) days from the date of this publication, comments on the proposed consent decree. Comments should be addressed to the Assistant Attorney General for the Environment and Natural Resources Division, P.O. Box 7611, U.S. Department of Justice, Washington, DC 20044-7611, and should refer to United States v. Tesoro Hawaii Corporation, Civil Action No. 01-00560 SOM LEK, DOJ No. 90-5-2-1-2124/2.

The proposed consent decree may be examined at the office of the United States Attorney, Suite 6100, Box 50183, 300 Ala Moana Boulevard, Honolulu, Hawaii 96850, and may also be obtained by mail from the Consent Decree Library, P.O. Box 7611, U.S. Department of Justice, Washington, DC 20044-7611. To request a copy of the proposed consent decree by mail, please refer to United States v. Tesoro Hawaii Corporation, Civil Action No. Civil 01-00560 SOM LEK, DOJ No. 90-5-2-1-2124/2, and enclose a check for the amount of $7.75 (25 cents per page reproduction cost) payable to the Consent Decree Library.

Ellen Mahan,
Assistant Section Chief, Environmental Enforcement Section, Environment and Natural Resources Division.

[FR Doc. 01-22118 Filed 8-31-01; 8:45 am]

BILLING CODE 4410-15-M